DEPARTMENT OF ENERGY

Federal Energy Regulatory Commission

[Docket No. CP17-256-000]

Texas Gas Transmission, LLC; Notice of Schedule for Environmental Review of the Morgan City and Youngsville Compression Station Abandoment Project

On April 26, 2017, Texas Gas Transmission, LLC (Texas Gas) filed an application in Docket No. CP17-256-000 requesting authorization pursuant to Section 7(b) of the Natural Gas Act, to abandon in-place certain compression facilities. The proposed project is known as the Morgan City and Youngsville Compressor Station Abandonment Project (Project), and would consist of abandoning in-place certain facilities at the Morgan City Compressor Station in Assumption Parish, Louisiana, and the Lafayette (referred to as “Youngsville”) Compressor Station in Lafayette Parish, Louisiana. In addition, Texas Gas would relinquish the firm design capacity associated with the Project facilities.

On May 9, 2017, revised on May 19, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA, September 25, 2017

90-day Federal Authorization Decision Deadline, December 24, 2017

If a schedule change becomes necessary, additional notice will be provided so that the relevant agencies are kept informed of the Project's progress.

Project Description

Texas Gas proposes to abandon in-place the Morgan City Compressor Station consisting of one 9,100 horsepower gas-fired turbine compressor unit, a compressor building, yard and station piping, and appurtenant auxiliary facilities located in Assumption Parish, Louisiana, and abandon in-place one 9,100 horsepower gas-fired turbine compressor unit and its compressor building at the Lafayette (Youngsville) Compressor Station located in Lafayette Parish, Louisiana.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and “Docket Number” excluding the last three digits (i.e., CP17-256), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: September 14, 2017.
Nathaniel J. Davis, Sr.,
Deputy Secretary.

[FR Doc. 2017-20016 Filed 9-19-17; 8:45 am]

BILLING CODE 6717-01-P